OFFICE OF MANAGEMENT AND BUDGET

Cumulative Report on Rescissions and Deferrals

May 1, 2001.

Section 1014(e) of the Congressional Budget and Impoundment Control Act of 1974 (Public Law 93-344) requires a monthly report listing all budget authority for the current fiscal year for which, as of the first day of the month, a special message had been transmitted to Congress.

This report gives the status, as of May 1, 2001, of two deferrals contained in one special message for FY 2001. The message was transmitted to Congress on January 18, 2001.

Deferrals (Attachments A and B)

As of May 1, 2001, $1.5 billion in budget authority was being deferred from obligation. Attachment B shows the status of each deferral reported during FY 2001.

Information From Special Message

The special message containing information on the deferrals that are covered by this cumulative report is printed in the edition of the Federal Register cited below: 66 FR 8985, Monday, February 5, 2001.

Mitchell E. Daniels, Jr.,
Director.

Attachment A

Status of FY 2001 Deferrals
[In millions of dollars]
| Budgetary resources
Deferrals proposed by the President | 1,946.7
Routine Executive releases through May 1, 2001 | −408.5
Overturned by the Congress |
Currently before the Congress | 1,538.2

BILLING CODE 3110-01-P

[FR Doc. 01-13075 Filed 5-23-01; 8:45 am]

BILLING CODE 3110-01-C